NATIONAL SCIENCE FOUNDATION

Notice of Permit Application Received Under the Antarctic Conservation Act of 1978

AGENCY: National Science Foundation.

ACTION: Notice of permit applications received under the Antarctic Conservation Act.

SUMMARY: Notice is hereby given that the National Science Foundation (NSF) has received a waste management permit application for operation of remote field camps during a helicopter flight from Patriot Hills to South Pole and return. The application is submitted to NSF pursuant to regulations issued under the Antarctic Conservation Act of 1978.

DATES: Interested parties are invited to submit written data, comments, or views with respect to this permit application by January 6, 2005. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene Kennedy at the above address or (703) 292-8030.

SUPPLEMENTARY INFORMATION: NSF's Antarctic Waste Regulation, 45 CFR Part 671, requires all U.S. citizens and entities to obtain a permit for the use or release of a designated pollutant in Antarctica, and for the release of waste in Antarctica. NSF has received a permit application under this Regulation for the operation of an expedition to Antarctica. Pole-to-Pole plans for two pilots to fly a Robinson R44 Raven II Helicopter from Ushuaia, Argentina to the South Pole and return to Patriot Hills, where the helicopter will be loaded onto an Illyushin IL-76 for the return flight to Punta Arenas, Chile. The Illyushin is operated by Antarctic Logistics and Expeditions (ALE). Refueling operations will take place at pre-existing fuel caches.

Application for the permit is made by: Steve Brooks, Pole-To-Pole, 1202 Pierce 100 Street, Clearwater, Florida, 96161.

Location: Patriot Hills, and South Geographic Pole.

Dates: January 1, 2005 to January 31, 2005.

Nadene G. Kennedy,
Permit Officer.

[FR Doc. 04-26826 Filed 12-6-04; 8:45 am]

BILLING CODE 7555-01-M